COMMISSION ON CIVIL RIGHTS

Commission Meeting

U.S. Commission on Civil Rights. Friday, November 7, 2008. 624 Ninth Street, NW., Rm. 540, Washington, DC 20425, 9:30 a.m.

Meeting Agenda

I. Approval of Agenda.

II. Approval of Minutes.

• October 17, 2008 Meeting.

III. Announcements.

IV. Staff Director's Report.

V. Program Planning.

• Project Outline and Discovery Plan for FY 2009 Statutory Report.

• Policy for Commissioner Rebuttals to Concurring and Dissenting Statements in National Office Reports.

VI. State Advisory Committee Issues.

• Illinois SAC.

• Minnesota SAC.

VII. Future Agenda Items.

VIII. Adjourn.

Contact Person for Further Information: Lenore Ostrowsky, Acting Chief, Public Affairs Unit, (202) 376-8582.

Dated: October 28, 2008.
David Blackwood,
General Counsel.

[FR Doc. E8-26067 Filed 10-28-08; 4:15 pm]

BILLING CODE 6335-01-P